ENVIRONMENTAL PROTECTION AGENCY

40 CFR Part 52

[KY 125-2 -200308(c); FRL-7449-9]

Approval and Promulgation of Implementation Plans for Kentucky: Air Permit Regulations; Withdrawal of Direct Final Rule

AGENCY: Environmental Protection Agency (EPA).

ACTION: Withdrawal of direct final rule.

SUMMARY: Due to adverse comment, EPA is withdrawing the direct final rule published December 30, 2002, (see 67 FR 79523) approving several revisions to the Kentucky State Implementation Plan. The revisions include separating Kentucky's air permits rule into several, smaller rules, and renumbering and rewriting these rules in plain English. EPA stated in the direct final rule that if EPA received adverse comment by January 29, 2003, the rule would be withdrawn and not take effect. EPA subsequently received adverse comment. EPA will address the comment in a subsequent final action based upon the proposed action also published on December 30, 2002 (see 67 FR 79543). EPA will not institute a second comment period on this action.

DATES: The direct final rule is withdrawn as of February 10, 2003.

FOR FURTHER INFORMATION CONTACT: Michele Notarianni, Air Planning Branch, U.S. Environmental Protection Agency Region 4, 61 Forsyth Street, SW, Atlanta, Georgia 30303-8960. (404/562-9031 (phone) or notarianni.michele@epa.gov (e-mail).)

List of Subjects in 40 CFR Part 52

Environmental protection, Air pollution control, Intergovernmental relations, Lead, Nitrogen dioxide, Ozone, Reporting and recordkeeping requirements, Sulfur oxides, Volatile organic compounds.

Dated: January 30, 2003.
A. Stanley Meiburg,
Acting, Regional Administrator, Region 4.

[FR Doc. 03-3239 Filed 2-7-03; 8:45 am]

BILLING CODE 6560-50-P